DEPARTMENT OF THE INTERIOR

National Park Service

[NPS-WASO-NAGPRA-16305; PPWOCRADN0-PCU00RP14.R50000]

Notice of Inventory Completion: U.S. Department of Defense, Army, Fort Sill National Historic Landmark and Museum, Fort Sill, OK

AGENCY: National Park Service, Interior.

ACTION: Notice.

SUMMARY: The Fort Sill National Historic Landmark and Museum has completed an inventory of human remains and associated funerary objects, in consultation with the appropriate Indian tribes or Native Hawaiian organizations, and has determined that a relationship of lineal descent has been established between the human remains and associated funerary objects of an identified individual and the individual's descendants. Lineal descendants not identified in this notice who wish to request transfer of control of these human remains and associated funerary objects should submit a written request to Fort Sill National Historic Landmark and Museum. If no additional requestors come forward, transfer of control of the human remains and associated funerary objects to the lineal descendants stated in this notice may proceed.

DATES: Lineal descendants not identified in this notice who wish to request transfer of control of these human remains and associated funerary objects should submit a written request with information in support of the request to the Fort Sill National Historic Landmark and Museum at the address in this notice by December 31, 2014.

ADDRESSES: Dr. Scott A. Neel, Director, Fort Sill National Historic Landmark and Museum, U.S. Army Fires Center of Excellence, Fort Sill, OK 73503, telephone (580) 442-6570, email scott.a.neel2.civ@mail.mil.

SUPPLEMENTARY INFORMATION: Notice is here given in accordance with the Native American Graves Protection and Repatriation Act (NAGPRA), 25 U.S.C. 3003, of the completion of an inventory of human remains and associated funerary objects under the control of the Fort Sill National Historic Landmark and Museum, Fort Sill, OK. The human remains and associated funerary objects were removed from a gravesite of an identified individual near Anadarko, OK.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Fort Sill National Historic Landmark and Museum and Fort Sill Environmental Quality Division professional staff in consultation with representatives of the Apache Tribe of Oklahoma; Caddo Nation of Oklahoma; Cheyenne and Arapaho Tribes, Oklahoma (previously listed as Cheyenne-Arapaho Tribes of Oklahoma); Comanche Nation, Oklahoma; Delaware Nation, Oklahoma; Fort Sill Apache Tribe of Oklahoma; Kiowa Indian Tribe of Oklahoma; The Chickasaw Nation; and the Wichita and Affiliated Tribes (Wichita, Keechi, Waco & Tawakonie), Oklahoma. The Delaware Nation, Oklahoma, Tribal Historic Preservation Officer and her staff, and other administrative staff, met with members of the Fort Sill National Historic Landmark and Museum and Fort Sill Environmental Quality Division staff on November 14, 2013, and examined the human remains and associated funerary objects.

History and Description of the Remains

In 1975, human remains representing, at minimum, one individual were removed from the original gravesite of Black Beaver near his home in Anadarko, Caddo County, OK. The human remains were exhumed for reburial in Chief's Knoll at the Fort Sill Post Cemetery. The human remains and associated funerary objects were not reinterred at Chief's Knoll. Black Beaver was a Delaware Chief. He was born in 1806 and died in 1886. The 52 associated funerary objects are 11 burnt clay and rocks, 12 animal bones, 2 glass fragments, 14 metal buttons or rivets, 3 plastic buttons, 4 unidentified pieces of metal, 2 lots of scraps of fabric, 1 lot of soil, 1 lot of wood fragments, and 2 lots of wood and nails from the coffin.

Kerry Holton has submitted a request for the human remains and associated funerary objects listed in this notice on behalf of himself and other relatives who are known lineal descendants of Black Beaver. Holton provided genealogical evidence tracing his direct lineal descent from Black Beaver. Harold Pruner and Kelli Line have also submitted genealogical evidence on behalf of themselves and additional named and unnamed descendants.

Determinations Made by the Fort Sill National Historic Landmark and Museum

Officials of the Fort Sill National Historic Landmark and Museum have determined that:

• Pursuant to 25 U.S.C. 3001(9), the human remains described in this notice represent the physical remains of one individual of Native American ancestry.

• Pursuant to 25 U.S.C. 3001(3)(A), the 52 objects described in this notice are reasonably believed to have been placed with or near individual human remains at the time of death or later as part of the death rite or ceremony.

• Pursuant to 43 CFR 10.14(b), there is a relationship of lineal descent that can be traced between the human remains and associated funerary objects of an identified individual, Black Beaver, and Kerry Holton, Harold Pruner, Kelli Line, and additional named and unnamed descendants who have come forward.

Additional Requestors and Disposition

Lineal descendants not identified in this notice who wish to request transfer of control of these human remains and associated funerary objects should submit a written request with information in support of the request to Dr. Scott A. Neel, Director, Fort Sill National Historic Landmark and Museum, U.S. Army Fires Center of Excellence, Fort Sill, OK 73503, telephone (580) 442-6570, email scott.a.neel2.civ@mail.mil, by December 31, 2014. After that date, if no additional requestors have come forward, transfer of control of the human remains and associated funerary objects of Black Beaver to Kerry Holton, Harold Pruner, and Kelli Line on behalf of themselves and other known lineal descendants may proceed.

The Fort Sill National Historic Landmark and Museum is responsible for notifying the Apache Tribe of Oklahoma; Caddo Nation of Oklahoma; Cheyenne and Arapaho Tribes, Oklahoma (previously listed as Cheyenne-Arapaho Tribes of Oklahoma); Comanche Nation, Oklahoma; Delaware Nation, Oklahoma; Fort Sill Apache Tribe of Oklahoma; Kiowa Indian Tribe of Oklahoma; The Chickasaw Nation; and the Wichita and Affiliated Tribes (Wichita, Keechi, Waco & Tawakonie), Oklahoma, that this notice has been published.

Dated: November 14, 2014.
Melanie O'Brien,
Acting Manager, National NAGPRA Program.

[FR Doc. 2014-28280 Filed 11-28-14; 8:45 am]

BILLING CODE 4312-50-P